DEPARTMENT OF COMMERCE

International Trade Administration

[A-201-820]

Agreement Suspending the Antidumping Duty Investigation on Fresh Tomatoes From Mexico: Final Results of the 2021-2022 Administrative Review

AGENCY: Enforcement and Compliance, International Trade Administration, Department of Commerce.

SUMMARY: The U.S. Department of Commerce (Commerce) determines that the respondents selected for individual examination, respectively, Ceuta Produce S.A. DE C.V. (Ceuta) and Valores Horticolas Del Pacifico S.A. De C.V (VALHPAC) (collectively, respondents), were in compliance with the terms of the 2019 Agreement Suspending the Antidumping Duty Investigation on Fresh Tomatoes from Mexico (2019 Agreement) during the period of review (POR) from September 1, 2021, through August 31, 2022, except for certain instances of inadvertent or inconsequential noncompliance. Commerce also determines that the 2019 Agreement met the applicable statutory requirements during the POR.

DATES: Applicable December 30, 2024.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Background

On October 10, 2023, Commerce published the preliminary results of this administrative review, and we invited interested parties to comment.¹ On November 9, 2023, the Florida Tomato Exchange (FTE), a member of the U.S. petitioning industry, filed a case brief.² On November 16, 2023, Ceuta and VALHPAC filed a joint rebuttal brief.³ Commerce extended the date for the publication of the final results until December 16, 2024.⁴ On December 9, 2024, Commerce tolled the deadlines for all preliminary and final determinations by 90 days.⁵

¹ See Agreement Suspending the Antidumping Duty Investigation on Fresh Tomatoes from Mexico; Preliminary Results of 2021-2022 Administrative Review, 88 FR 69899 (October 10, 2023) (Preliminary Results), and accompanying Preliminary Decision Memorandum.

² See FTE's Letter, “Case Brief on Behalf of the Florida Tomato Exchange,” dated November 9, 2023.

³ See Ceuta and VALHPAC's Letter, “Rebuttal Brief of Ceuta Produce, S. de R.L. de C.V. and Valores Horticolas del Pacifico, S.A. de C.V.,” dated November 16, 2023.

⁴ See Memorandum, “Decision Memorandum for the Final Results of the 2021-2022 Administrative Review: Fresh Tomatoes from Mexico,” dated concurrently with, and hereby adopted by, this notice (Issues and Decision Memorandum).

⁵ See Memorandum, “Tolling of Deadlines for Antidumping and Countervailing Duty Proceedings,” dated December 9, 2024.

Scope of 2019 Agreement

The merchandise subject to this 2019 Agreement is all fresh or chilled tomatoes (fresh tomatoes) which have Mexico as their origin, except for those tomatoes which are for processing. For purposes of this 2019 Agreement, processing is defined to include preserving by any commercial process, such as canning, dehydrating, drying, or the addition of chemical substances, or converting the tomato product into juices, sauces, or purees. In Appendix F of this 2019 Agreement, Commerce has outlined the procedure that Signatories must follow for selling subject merchandise for processing. Fresh tomatoes that are imported for cutting up, not further processing (e.g., tomatoes used in the preparation of fresh salsa or salad bars), are covered by this 2019 Agreement. Commercially grown tomatoes, both for the fresh market and for processing, are classified as Lycopersicon esculentum. Important commercial varieties of fresh tomatoes include common round, cherry, grape, plum, greenhouse, and pear tomatoes, all of which are covered by this 2019 Agreement. Tomatoes imported from Mexico covered by this 2019 Agreement are classified under the following subheading of the Harmonized Tariff Schedules of the United States (HTSUS), according to the season of importation: 0702. Although this HTSUS number is provided for convenience and customs purposes, the written description of the scope of this Agreement is dispositive.

A full description of the scope of the 2019 Agreement is also contained in the Issues and Decision Memorandum.

Analysis

Commerce continues to find, based on record evidence, that the selected respondents, Ceuta and VALHPAC, were in compliance with the terms of the 2019 Agreement during the POR, with the exception of certain inconsequential or inadvertent non-compliance. Overall, Commerce finds that there have been no material or consequential violations of the 2019 Agreement by the selected respondents during the POR. We also determine that the 2019 Agreement is meeting the applicable statutory requirements for a suspension agreement, e.g., preventing price suppression or undercutting, and effective monitoring is practicable.

The issues raised in the case and rebuttal briefs are addressed in the accompanying Issues and Decision Memorandum. The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Administrative Protective Order (APO)

This notice also serves as a reminder to parties subject to APO of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results of review in accordance with sections 751(a)(l) and 777(i)(l) of the Tariff Act of 1930, as amended, and 19 CFR 351.213 and 19 CFR 351.221(b)(5).

Dated: December 20, 2024.
Abdelali Elouaradia,
Deputy Assistant Secretary for Enforcement and Compliance.

Appendix

List of Topics Discussed in the Issues and Decision Memorandum

I. Summary

II. Background

III. Scope of the Agreement

IV. Discussion of the Issues

1. Instances of Noncompliance During the POR

2. Whether the 2019 Suspension Agreement is Effectively Monitorable and Enforceable

3. Whether Commerce Should Take Additional Enforcement Action

V. Recommendation

[FR Doc. 2024-31084 Filed 12-27-24; 8:45 am]

BILLING CODE 3510-DS-P